DEPARTMENT OF HEALTH AND HUMAN SERVICES

National Institutes of Health

Center for Scientific Review; Amended Notice of Meeting

Notice is hereby given of a change in the meeting of the Center for Scientific Special Emphasis Panel, November 28, 2006, 11 a.m., to November 28, 2006, 4 p.m. National Institutes of Health, 6701 Rockledge Drive, Bethesda, MD 20892 which was published in the Federal Register on November 17, 2006, 71 FR 66958-66959.

The meeting will be held December 19, 2006. The meeting time and location remain the same. The meeting is closed to the public.

Dated: December 8, 2006.
Anna Snouffer,
Acting Director, Office of Federal Advisory Committee Policy.

[FR Doc. 06-9704 Filed 12-13-06; 8:45 am]

BILLING CODE 4140-01-M